GENERAL SERVICES ADMINISTRATION

41 CFR Chapter 302

[Notice-MA-2025-02; Docket No. 2024-0002; Sequence No. 51]

Federal Travel Regulation (FTR); Relocation Allowances—Waiver of Certain Provisions for Official Relocation Travel to Locations in Alabama, Florida, Georgia, North Carolina, South Carolina, Tennessee, and Virginia Impacted by Hurricane/Tropical Storm/Post-Tropical Cyclone Helene, Hurricane Milton, or Both

AGENCY: Office of Government-wide Policy (OGP), General Services Administration (GSA).

ACTION: Notification of GSA Bulletin FTR 25-02.

SUMMARY: GSA Bulletin FTR 25-02 informs Federal agencies that certain provisions of the FTR governing official relocation travel are temporarily waived for Alabama, Florida, Georgia, North Carolina, South Carolina, Tennessee, and Virginia locations impacted by Hurricane/Tropical Storm/Post-tropical Cyclone Helene, Hurricane Milton, or both. As a result of the storm damage caused by Hurricane/Tropical Storm/Post-tropical Cyclone Helene and Hurricane Milton, agencies should consider delaying all non-essential relocations to the affected areas for a period of at least 30 days because the ability to secure lodgings may have been compromised due to the storm. In addition, the statutory 120-day maximum for payment of temporary quarters subsistence expenses (TQSE) remains in effect. Due to the lasting effects of the storm damage to these affected areas, finding a permanent residence may be difficult, which might also affect household goods temporary storage time requirements, along with the completion of all aspects of relocation within one year of reporting to the new duty station.

DATES: The waivers in the FTR Bulletin are retroactively effective for official relocation travel that is/was performed in designated areas on or after the respective incident period start dates for the declarations listed in the Bulletin, and will expire 180 days from the respective disaster declaration dates. The Bulletin will expire upon the expiration of the last 180 day period, unless extended or rescinded by OGP.

FOR FURTHER INFORMATION CONTACT: Mr. Rick Miller, Senior Policy Analyst, Office of Government-wide Policy, Office of Asset and Transportation Management, at 202-501-3822 or by email at travelpolicy@gsa.gov. Please cite Notice of GSA Bulletin FTR 25-02.

SUPPLEMENTARY INFORMATION:

Background

Federal agencies authorize relocation entitlements to those individuals listed at FTR § 302-1.1 and those assigned under the Government Employees Training Act (GETA) (5 U.S.C. chapter 41) which must be used within one year. Some agencies will authorize a househunting trip (HHT) to assist employees to seek permanent housing, while some employees are occupying temporary housing and have household goods in storage beyond the authorized timeframe of 150 to 180 days depending on the type of relocation. The FTR limits the timeframe to complete the relocation, household goods temporary storage, and the type of per diem for HHT. Hurricane/Tropical Storm/Post-tropical Cyclone Helene and Hurricane Milton have affected locations in Alabama, Florida, Georgia, North Carolina, South Carolina, Tennessee, and Virginia, which has resulted in various travel-related disruptions to relocating employees. Accordingly, FTR Bulletin 25-02, Waiver of certain provisions of FTR Chapter 302 for official relocation travel to locations in Alabama, Florida, Georgia, North Carolina, South Carolina, Tennessee, and Virginia, impacted by Hurricane/Tropical Storm/Post-tropical Cyclone Helene, Hurricane Milton, or both, allows agencies to determine whether to implement waivers of time limits established by the FTR for completion of all aspects of relocation and temporary storage of HHGs, as well as the limitation for HHTs to be reimbursed at the standard CONUS rate.

GSA Bulletin FTR 25-02 can be viewed at https://www.gsa.gov/ftrbulletins.

Mehul Parekh,
Acting Associate Administrator, Office of Government-wide Policy.

[FR Doc. 2024-25361 Filed 10-29-24; 8:45 am]

BILLING CODE 6820-14-P